DEPARTMENT OF STATE

[Public Notice 6505]

Title: 30-Day Notice of Proposed Information Collection: Form DS-0086, Statement of Non-Receipt of a Passport, 1405-0146

ACTION: Notice of request for public comment and submission to OMB of proposed collection of information.

SUMMARY: The Department of State has submitted the following information collection request to the Office of Management and Budget (OMB) for approval in accordance with the Paperwork Reduction Act of 1995.

• Title of Information Collection: Statement of Non-Receipt of a Passport.

• OMB Control Number: 1405-0146.

• Type of Request: Extension of a Currently Approved Collection.

• Originating Office: Department of State, Bureau of Consular Affairs, Passport Services, Office of Field Operations, Field Coordination Division. CA/PPT/FO/FC.

• Form Number: DS-0086.

• Respondents: Individuals or Households.

• Estimated Number of Respondents: 27,400.

• Estimated Number of Responses: 27,400.

• Average Hours per Response: 5 minutes.

• Total Estimated Burden: 2,283 hours.

• Frequency: On occasion.

Obligation to Respond: Required to Obtain or Retain a Benefit.

DATES: Submit comments to the Office of Management and Budget (OMB) for up to 30 days from February 3, 2009.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from Andrina Agnew, U.S. Department of State, CA/PPT/FO/FC, 2100 Pennsylvania Avenue, NW., Suite 3040, SA-29, Washington, DC 20037, who may be reached on (202) 663-2445 or at agnewam@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection: The Statement of Non-Receipt of a Passport, Form DS-0086, is used by Consular Officers, Passport Specialists, and Acceptance Agents to collect information for the purpose of issuing a second passport to customers who have not received the passport for which they originally applied.

The information is used by the Department of State to ensure that no person shall bear more than one valid or potentially valid U.S. passport book and U.S. passport card at any one time, except as authorized by the Department, and also aids in combating passport fraud and misuse.

Methodology: Passport applicants who do not receive their passports are required to complete a Statement of Non-Receipt of a Passport, Form DS-0086. Passport applicants can either download the form from the Internet or pick one up from an Acceptance Facility/Passport Agency. The form must be completed, signed, and then submitted to the Acceptance Facility/Passport Agency for passport re-issuance.

Dated: January 23, 2009.
Brenda S. Sprague,
Deputy Assistant Secretary for Passport Services, Bureau of Consular Affairs, Department of State.

[FR Doc. E9-2257 Filed 2-2-09; 8:45 am]

BILLING CODE 4710-06-P